DEPARTMENT OF THE INTERIOR

Bureau of Land Management

[NM-030-1220-BZ]

Resource Management Plan Amendment (RMPA) and Environmental Assessment (EA) for Potential Reroute of the Continental Divide National Scenic Trail in Hidalgo and Grant Counties, New Mexico

AGENCY: Bureau of Land Management, Interior.

ACTION: Notice of intent.

SUMMARY: The BLM Las Cruces Field Office is initiating the preparation of an RMPA which will include an EA for potential rerouting of the Continental Divide National Scenic Trail in Hidalgo and Grant Counties in southwestern New Mexico. The RMPA will allow for selection of an alternate route for the Trail that will consider reducing mileage of the trail and reducing agency costs and timeframes associated with development of the Continental Divide National Scenic Trail. The public is invited to participate in the scoping process to identify issues and planning criteria to be considered in the development of the RMPA/EA. The BLM will maintain a mailing list of parties and persons interested in being kept informed about the RMPA/EA.

DATES: Comments will be accepted for 30-days following publication of this notice.

ADDRESSES: Comments should be sent to the BLM Las Cruces Field Office, Attn. Mark Hakkila, 1800 Marquess, Las Cruces, New Mexico 88005.

It is our practice to make Public comments, including names and street addressees of respondents, available for public review at the LCFO during regular business hours 7:30 a.m. to 4:30 p.m., Monday through Friday, except holidays, and may be published as part of the EA document. Individual respondents may request confidentiality. If you wish to withhold your name or street address from public review or from disclosure under the Freedom of Information Act, you must state this prominently at the beginning of your written comment. Such requests will be honored to the extent allowed by law. All submissions from organizations and businesses, and from individuals identifying themselves as representatives or officials or organizations or businesses, will be available for public inspection in their entirety.

FOR FURTHER INFORMATION CONTACT: Mark Hakkila, Team Leader at (505) 525-4341 or by e-mail at mhakkila@nm.blm.gov.

SUPPLEMENTARY INFORMATION: The BLM selected a 130-mile corridor for the Continental Divide National Scenic Trail through the Mimbres Resource Management Plan (RMP), completed in 1993. The selected route goes from Antelope Wells, New Mexico on the south to the Continental Divide where it enters the Gila National Forest in the Burro Mountains on the north. Since completion of the Mimbres RMP, the Continental Divide Trail Alliance came into being as the main trail user advocacy group. The Alliance proposes to shorten the route so that hikers can start on the International boundary with Mexico north of the Big Hatchet Mountains. Additionally, the Gila National Forest has changed their selected route so that the Trail will exit the Burro Mountains at Engineer Canyon instead of along the Continental Divide. In order to select a route that meets these new criteria, the RMP must be amended. The RMPA/EA will be prepared by an interdisciplinary team of BLM resource specialists including realty, recreation, cultural, minerals, and hazardous materials specialists. Additional technical support will be provided by other specialists as needed.

Dated: January 27, 2005.
Edwin L. Roberson,
Field Manager, Las Cruces.

[FR Doc. 05-6977 Filed 4-7-05; 8:45 am]

BILLING CODE 4310-VC-P